DEPARTMENT OF HEALTH AND HUMAN SERVICES

Centers for Disease Control and Prevention

[30Day-04-0422X]

Proposed Data Collections Submitted for Public Comment and Recommendations

The Centers for Disease Control and Prevention (CDC) publishes a list of information collection requests under review by the Office of Management and Budget (OMB) in compliance with the Paperwork Reduction Act (44 U.S.C. chapter 35). To request a copy of these requests, call the CDC Reports Clearance Officer at (404) 498-1210 or send an e-mail to omb@cdc.gov. Send written comments to CDC Desk Officer, Human Resources and Housing Branch, New Executive Office Building, Room 10235, Washington, DC 20503 or by fax to (202) 395-6974. Written comments should be received within 30 days of this notice.

Proposed Project

Indicators of the Performance of Local and State Education Agencies in HIV Prevention and Coordinated School Health Program Activities for Adolescent and School Health Programs—New—National Center for Chronic Disease Prevention and Health Promotion (NCCDPHP), Centers for Disease Control and Prevention (CDC). This proposed project is an annual Web-based questionnaire to assess programmatic activities among local, state and territorial education agencies (LEA, SEA and TEA) funded by CDC, NCCDPHP, Division of Adolescent and School Health (DASH).

Currently, CDC does not fund a standardized annual reporting process within NCCDPHP that assesses HIV prevention activities or coordinated school health program (CSHP) activities among LEAs, SEAs and TEAs. Data gathered from this questionnaire will: (1) Provide standardized information about how HIV prevention and CSHP funds are used by LEAs, SEAs and TEAs; (2) assess the extent to which programmatic adjustments are indicated; (3) provide descriptive and process information about program activities; and (4) provide greater accountability for use of public funds.

There will be three Web-based questionnaires corresponding to the specific funding sources from the CDC, NCCDPHP, DASH. Two questionnaires pertain to HIV prevention program activities among LEAs, SEAs and TEAs. The third questionnaire pertains to CSHP activities among SEAs.

The two HIV questionnaires will include questions on:

—Distribution of professional development and individualized technical assistance on school policies;

—Distribution of professional development and individualized technical assistance on education curricula and instruction;

—Distribution of professional development and individualized technical assistance assessment of student standards;

—Collaboration with external partners;

—Targeting priority populations;

—Planning and improving projects; and

—Information about additional program activities.

The third questionnaire, CSHP, will also ask the questions above; however, it will focus on physical activity, nutrition, and tobacco-use prevention activities. It will include additional questions on:

—Joint activities of the State Education Agency and State Health Agency (SHA);

—Activities of the CSHP state-wide coalition; and

—Health promotion programs and environmental approaches to Physical Activity, Nutrition and Tobacco (PANT).

There are no costs to respondents except for their time. The approximate annualized burden hours are 718.

Respondents | Number of respondents | Number of responses per respondent | Average burden per response (in hrs.)
HIV Prevention Questionnaire: Local Education Agency Officials | 18 | 1 | 7
HIV Prevention Questionnaire: State & Territorial Education Agency Officials | 55 | 1 | 7
CSHP Questionnaire: State Education Agency Officials | 23 | 1 | 9

Dated: October 26, 2004.
B. Kathy Skipper,
Acting Director, Management Analysis and Services Office, Centers for Disease Control and Prevention.

[FR Doc. 04-24319 Filed 10-29-04; 8:45 am]

BILLING CODE 4163-18-P